DEPARTMENT OF ENERGY

Federal Energy Regulatory Commission

[Docket No. CP11-3-000]

ANR Pipeline Company; Notice of Application

October 7, 2010.

Take notice that on October 6, 2010, ANR Pipeline Company (ANR), 717 Texas Street, Suite 2400, Houston, Texas 77002-2761, filed in Docket No. CP11-3-000 an application pursuant to section 7 of the Natural Gas Act (NGA), as amended, for permission and approval to abandon by sale certain natural gas facilities located between Eugene Island Blocks 307 and 305, offshore Louisiana, to Dynamic Offshore Resources NS, LLC (Dynamic), a natural gas producer, all as more fully set forth in the application which is on file with the Commission and open to the public for inspection. This filing may be also viewed on the web at http://www.ferc.gov using the “eLibrary” link. Enter the docket number excluding the last three digits in the docket number field to access the document. For assistance, please contact FERCOnline Support at FERCOnlineSupport@ferc.gov or toll free at (866) 208-3676, or TTY, contact (202) 502-8659.

ANR proposes to abandon by sale approximately its Line 607 (4.41 miles of 16-inch diameter pipeline) ¹ and appurtenances, located in Eugene Island Blocks 307, 306, and 305 to Dynamic, pursuant to their June 10, 2010, Pipeline Repair and Purchase and Sale Agreement. ANR states that it would cost an estimated $25,186,000 to replicate the Line 607 facilities today and that no construction or removal of facilities would be required in this proposal. ANR further states that upon abandonment of the Line 607 facilities, Dynamic intends to operate the facilities as non-jurisdictional facilities and ANR further requests that the Commission consider the Line 607 Facilities to be non-jurisdictional gathering not subject to jurisdiction under Section 1 (b) of the Natural Gas Act.

¹ ANR constructed the Line 607 facilities, which connect to ANR's Line 606, under authorization granted in Docket No. CP77-386-000 [59 FPC 2164 (1977)].

Any questions concerning this application may be directed to Rene Staeb, Manager, Project Determinations & Regulatory Administration, ANR Pipeline Company, 717 Texas Street, Houston, Texas 77002, or via telephone at (832) 320-5215, facsimile (832) 320-6215, or e-mail rene_staeb@transcanada.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions via the Internet in lieu of paper. See, 18 CFR 385.2001(a)(1)(iii) and the instructions on the Commission's Web site (http://www.ferc.gov) under the “e-Filing” link.

Comment Date: October 28, 2010.

Kimberly D. Bose,
Secretary.

[FR Doc. 2010-25954 Filed 10-14-10; 8:45 am]

BILLING CODE 6717-01-P